DEPARTMENT OF ENERGY

Federal Energy Regulatory Commission

[Project No. 2808-016]

KEI (Maine) Power Management (III) LLC; Notice of Intent To File License Application, Filing of Pre-Application Document, and Approving Use of the Traditional Licensing Process

a. Type of Filing: Notice of Intent to File License Application and Request to Use the Traditional Licensing Process.

b. Project No.: 2808-016.

c. Date Filed: January 31, 2014.

d. Submitted By: KEI (Maine) Power Management (III) LLC.

e. Name of Project: Lower Barker Hydroelectric Project.

f. Location: On the Little Androscoggin River, in Androscoggin County, Maine. No federal lands are occupied by the project works or located within the project boundary.

g. Filed Pursuant to: 18 CFR 5.3 of the Commission's regulations.

h. Potential Applicant Contact: Lewis Loon, KEI (Maine) Power Management (III) LLC, 37 Alfred Plourde Parkway Suite 2, Lewiston, ME 04240.

i. FERC Contact: Ryan Hansen at (202) 502-8074; or email at ryan.hansen@ferc.gov.

j. KEI (Maine) Power Management (III) LLC (KEI Maine) filed its request to use the Traditional Licensing Process on January 31, 2014. KEI Maine provided public notice of its request on February 4 and February 11, 2014. In a letter dated March 19, 2014, the Director of the Division of Hydropower Licensing approved KEI Maine's request to use the Traditional Licensing Process.

k. With this notice, we are designating KEI Maine as the Commission's non-federal representative for carrying out informal consultation pursuant to section 7 of the Endangered Species Act and section 305(b) of the Magnuson-Stevens Fishery Conservation and Management Act; and consultation pursuant to section 106 of the National Historic Preservation Act.

l. KEI Maine filed a Pre-Application Document (PAD; including a proposed process plan and schedule) with the Commission, pursuant to 18 CFR 5.6 of the Commission's regulations.

m. A copy of the PAD is available for review at the Commission in the Public Reference Room or may be viewed on the Commission's Web site (http://www.ferc.gov), using the “eLibrary” link. Enter the docket number, excluding the last three digits in the docket number field to access the document. For assistance, contact FERC Online Support at FERCONlineSupport@ferc.gov, (866) 208-3676 (toll free), or (202) 502-8659 (TTY). A copy is also available for inspection and reproduction at the address in paragraph h.

n. The licensee states its unequivocal intent to submit an application for a new license for Project No. 2808. Pursuant to 18 CFR 16.8, 16.9, and 16.10 each application for a new license and any competing license applications must be filed with the Commission at least 24 months prior to the expiration of the existing license. All applications for license for this project must be filed by February 1, 2017.

o. Register online at http://www.ferc.gov/docs-filing/esubscription.asp to be notified via email of new filing and issuances related to this or other pending projects. For assistance, contact FERC Online Support.

Dated: March 19, 2014.
Kimberly D. Bose,
Secretary.

[FR Doc. 2014-06541 Filed 3-25-14; 8:45 am]

BILLING CODE 6717-01-P